DEPARTMENT OF DEFENSE

Department of the Army

Army Science Board; Notice of Closed Meeting

In accordance with Section 10(a)(2) of the Federal Advisory Committee Act (Pub. L. 92 463), announcement is made of the following Committee Meeting:

Name of Committee: Army Science Board (ASB).

Date of Meeting: 18 19 September 2000.

Time of Meeting: 0730-1700.

Place: President Towers (Sept 18)/Fort AP Hill (Sept 19).

Agenda: The Army Science Board's (ASB) Study Group on “Countermine” will meet to have subgroup briefings and overall group discussion on September 18 and then, on September 19, will travel to Fort AP Hill for active demonstrations. This meeting will be closed to the public in accordance with section 552b(c) of Title 5, U.S.C., specifically subparagraph (1) thereof, and Title 5, U.S.C., Appendix 2, subsection 10(d). (Please see attached Agendas.) The classified preclude opening any portion of this meeting. For further information, please contact our office at (703) 604-7479.

Wayne Joyner,
Program Support Specialist, Army Science Board.

Agenda—The Army Science Board's Countermine Summer Study

September 18, 19, 2000.

(Tentative Agenda)

September 18, 2000

0800-0900—Introduction—Classified

0900-1000—Wide Area Surveillance Panel—Classified

1000-1015—Break

1015-1115—Maneuver Unit Support and Route Clearing—Classified

1115-1215—Mine Clearing in Surf Zone—Classified

1215-1315—Lunch

1315-1415—Physical Security and Humanitarian Demining—Classified

1415-1515—Breaching—Classified

1515-1530—Break

1530-1630—Basic Research and Phenomenology—Classified

1630-1700—Closing Discussion

(The Study chairperson wants to keep open the option of classified discussions for both days of this meeting.) For additional clarification, phone Debbie Butler at 703-601-1552.

September 19, 2000

0730—Depart from Presidential Towers to Fort AP Hill, VA

0930—Arrive at Demo site 71 Alpha

0945—John Fasulo mine threat, mine blast demonstration

1100—Mine Hunter/Killer brief and system demo

1130—HSTAMIDS brief and system demo

1200—Lunch

1245—S&T system brief and demo at JUXOCO site

1315—JUXOCO site tour

1345—Wrap up/discussion

1430—Depart Demo site 71 Alpha

1630—Arrive back at Presidential Towers, Crystal City

[FR Doc. 00-24080 Filed 9-19-00; 8:45 am]

BILLING CODE 3710-08-M